DEPARTMENT OF HOMELAND SECURITY

Coast Guard

33 CFR Part 117

[USCG-2008-0228]

Drawbridge Operation Regulations; Norwalk River, Norwalk, CT

AGENCY: Coast Guard, DHS.

ACTION: Notice of temporary deviation from regulations.

SUMMARY: The Commander, First Coast Guard District, has issued a temporary deviation from the regulations governing the operation of the Washington Street S136 Bridge, across the Norwalk River, mile 0.0, at Norwalk, Connecticut. While in effect, this deviation allows the bridge owner to open only one of the two moveable spans for bridge openings. Vessels that require a full two-span bridge opening will be required to provide at least a twelve-hour advance notice by calling the bridge operator. This deviation is necessary to facilitate scheduled bridge maintenance.

DATES: This deviation is effective from April 1, 2008 through April 30, 2008.

ADDRESSES: Documents indicated in this preamble as being available in the docket are part of docket USCG-2008-0228 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, One South Street, New York, New York, 10004, between 7 a.m. and 3 p.m., Monday through Friday, except Federal holidays, telephone number (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The Washington Street S136 Bridge, across the Norwalk River, mile 0.0, at Norwalk, Connecticut, has a vertical clearance in the closed position of 9 feet at mean high water and 16 feet at mean low water. The existing regulations are listed at 33 CFR 117.217(a).

The owner of the bridge, Connecticut Department of Transportation, requested a temporary deviation to facilitate scheduled structural maintenance and painting at the bridge.

In order to perform the structural and bridge painting operations, one of the two moveable spans must remain in the closed position in order to erect paint containment and perform the required bridge maintenance.

We issued a temporary deviation (USCG-2007-0185; 73 FR 1273, Jan. 8, 2008) authorizing single leaf operation for bridge painting effective from January 2, 2008 through March 31, 2008. On March 13, 2008, the bridge owner requested that the single leaf operation for bridge painting continue through the end of April 2008, to allow completion of this project.

Under this second temporary deviation the Washington Street S136 Bridge across the Norwalk River, mile 0.0, at Norwalk, Connecticut, need open only one of the two moveable spans for bridge openings from April 1, 2008 through April 30, 2008. Vessels requiring a full two-span bridge opening may do so provided that they give at least a twelve-hour advance notice to the bridge operator by calling (203) 866-7691.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

In accordance with 33 CFR 117.35(e), the bridge must return to its regular operating schedule immediately at the end of the designated time period. This deviation from the operating regulations is authorized under 33 CFR 117.35.

Dated: April 1, 2008.
Gary Kassof,
Bridge Program Manager, First Coast Guard District.

[FR Doc. E8-7675 Filed 4-10-08; 8:45 am]

BILLING CODE 4910-15-P